DEPARTMENT OF AGRICULTURE

Forest Service

National Urban and Community Forestry Advisory Council

AGENCY: Forest Service, USDA.

ACTION: Notice of meeting.

SUMMARY: The National Urban and Community Forestry Advisory Council (Council) will meet in Washington, DC The Council is established consistent with Section 9 of the Cooperative Forestry Assistance Act, as amended by Title XII, Section 1219 of Public Law No. 101-624, and the Federal Advisory Committee Act (FACA) (5 U.S.C. App. II). Additional information concerning the Council can be found by visiting the Council's Web site at: http://www.fs.fed.us/ucf/nucfac.html.

DATES: The meeting will be held on January 22 and 23, 2014, 9:00 a.m. to 5:00 p.m. or until Council business is completed.

ADDRESSES: The meeting will be at the USDA South Building, 1400 Independence Avenue SW., Washington, DC 20250-9911, Wing 3, First Floor, Cafeteria Room 1 and 2. Written comments may be submitted as described under SUPPLEMENTARY INFORMATION. All comments, including names and addresses when provided, are placed in the record and are available for public inspection and copying. The public may inspect comments received at the USDA Forest Service—Washington Office. Please call ahead to facilitate entry into the building.

FOR FURTHER INFORMATION CONTACT: Nancy Stremple, Executive Staff to the National Urban and Community Forestry Advisory Council, by mailing address at 201 14th Street. SW., Yates Building (3 Southeast), Washington, DC 20250; by phone at 202-205-7829, by cell phone at 202-309-9873 or by email at nstremple@fs.fed.us.

Individuals who use telecommunication devices for the deaf (TDD) may call the Federal Information Relay Service (FIRS) at 1-800-877-8339 between 8:00 a.m. and 8:00 p.m., Eastern Standard Time, Monday through Friday.

SUPPLEMENTARY INFORMATION: The purpose of this meeting is to introduce and orient new members; finalize the work plan action items; discuss 2015 grant categories; hear updates from past grant recipients; continue preparation for the 10 year action plan revisions; receive Forest Service updates on program activities and budget; and hear feedback from the submitted accomplishment/recommendations report. The meeting is open to the public. Individuals wishing to make an oral statement should submit a request in writing by January 10, 2014 to be scheduled on the agenda. Council discussion is limited to Forest Service staff and Council members; however, anyone who would like to bring urban and community forestry matters to the attention of the Council may file written statements with the Council staff before or after the meeting. Written comments, time requests for oral comments and to facilitate entrance into the USDA South Building (next to the Smithsonian Metro) must be sent to Nancy Stremple, Executive Staff to the National Urban and Community Forestry Advisory Council, 201 14th Street SW., Yates Building (3 Southeast), Washington, DC 20250; by email nstremple@fs.fed.us, or via facsimile to 202-690-5792.

Meeting Accommodations: If you are a person requiring reasonable accommodation, please make requests in advance for sign language interpreting, assistive listening devices or other reasonable accommodation for access to the facility or proceedings by contacting the person listed in the section titled For Further Information Contact. All reasonable accommodation requests are managed on a case by case basis.

Dated: December 6, 2013.
Paul Ries,
Associate Deputy Chief, State and Private Forestry.

[FR Doc. 2013-29910 Filed 12-16-13; 8:45 am]

BILLING CODE 3410-11-P